DEPARTMENT OF COMMERCE

International Trade Administration

[A-560-826]

Monosodium Glutamate From Indonesia: Preliminary Results of Antidumping Duty Administrative Review; 2015-2016

AGENCY: Enforcement and Compliance, International Trade Administration, U.S. Department of Commerce.

SUMMARY: The Department of Commerce (the Department) is conducting an administrative review of the antidumping duty order on monosodium glutamate (MSG) from Indonesia. The period of review (POR) is November 1, 2015 through October 31, 2016. The review covers a single mandatory respondent, PT Cheil Jedang Indonesia (CJI). The Department preliminarily determines that the respondent has not made sales of subject merchandise below normal value (NV). We invite interested parties to comment on these preliminary results.

DATES: Applicable December 4, 2017.

FOR FURTHER INFORMATION CONTACT: Caitlin Monks or Joseph Traw, AD/CVD Operations, Office VII, Enforcement and Compliance, International Trade Administration, U.S. Department of Commerce, 1401 Constitution Avenue NW., Washington, DC 20230; telephone: (202) 482-2670 or (202) 482-6079, respectively.

SUPPLEMENTARY INFORMATION:

Background

On January 13, 2017, the Department initiated this administrative review on MSG from Indonesia covering one company, CJI. The events that have occurred between initiation and these preliminary results are discussed in the Preliminary Decision Memorandum.¹

¹ See Memorandum to Gary Taverman, Deputy Assistant Secretary for Antidumping and Countervailing Duty Operations, from James Maeder, Senior Director performing the duties of Deputy Assistant Secretary for Antidumping and Countervailing Duty Operations, “Decision Memorandum for Preliminary Results of Antidumping Duty Administrative Review: Monosodium Glutamate from Indonesia, 2015-2016,” dated November 27, 2017 (Preliminary Decision Memorandum), which is hereby adopted by this Federal Register notice.

Scope of the Order

The merchandise covered by this order is monosodium glutamate (MSG), whether or not blended or in solution with other products. The product is currently classified in the Harmonized Tariff Schedule of the United States (HTSUS) at subheading 2922.42.10.00. Merchandise covered by this order may also enter under HTSUS subheadings 2922.42.50.00, 2103.90.72.00, 2103.90.74.00, 2103.90.78.00, 2103.90.80.00, and 2103.90.90.91. These tariff classifications are provided for convenience and customs purposes; however, the written product description, available in the Preliminary Decision Memorandum, remains dispositive.²

² For a complete description of the Scope of the Order, see Preliminary Decision Memorandum.

Methodology

The Department is conducting this review in accordance with section 751(a)(2) of the Tariff Act of 1930, as amended (the Act). Export price is calculated in accordance with section 772 of the Act. NV is calculated in accordance with section 773 of the Act.

For a full description of the methodology underlying our conclusions, see the Preliminary Decision Memorandum. The Preliminary Decision Memorandum is a public document and is on file electronically via Enforcement and Compliance's Antidumping and Countervailing Duty Centralized Electronic Service System (ACCESS). ACCESS is available to registered users at http://access.trade.gov and is available to all parties in the Central Records Unit, Room B8024 of the main Department of Commerce building. In addition, a complete version of the Preliminary Decision Memorandum can be accessed directly on the internet at http://enforcement.trade.gov/frn/index.html. The signed Preliminary Decision Memorandum and the electronic version of the Preliminary Decision Memorandum are identical in content. A list of the topics discussed in the Preliminary Decision Memorandum is attached as an Appendix to this notice.

Preliminary Results of Review

As a result of this review, we calculated a zero percent dumping margin for CJI for the period November 1, 2015, through December 31, 2016.

Disclosure and Public Comment

The Department intends to disclose to the parties the calculations performed in connection with these preliminary results within five days of the date of publication of this notice.³ Pursuant to 19 CFR 351.309(c)(ii), the Department will issue a case brief schedule at a later date in the proceeding, notifying interested parties of the deadlines for submitting case and rebuttal briefs. When the case brief schedule is issued, parties who submit case briefs or rebuttal briefs in this proceeding are encouraged to submit with each argument: (1) A statement of the issue; (2) a brief summary of the argument; and (3) a table of authorities.⁴ Case and rebuttal briefs should be filed using ACCESS.⁵ In order to be properly filed, ACCESS must successfully receive an electronically-filed document in its entirety by 5 p.m. Eastern Time on the established deadline.

³ See 19 CFR 351.224(b).

⁴ See 19 CFR 351.309(c)(2) and (d)(2).

⁵ See 19 CFR 351.303.

Pursuant to 19 CFR 351.310(c), interested parties who wish to request a hearing, or to participate if one is requested, must submit a written request to the Assistant Secretary for Enforcement and Compliance, filed electronically via ACCESS, within 30 days after the date of publication of this notice.⁶ Requests should contain: (1) The party's name, address, and telephone number; (2) the number of participants; and (3) a list of issues to be discussed. Issues raised in the hearing will be limited to those raised in the respective case briefs.

⁶ See 19 CFR 351.310(c).

Unless extended, the Department intends to issue the final results of this administrative review, including the results of its analysis of the issues raised in any written briefs, not later than 120 days after the date of publication of this notice, pursuant to section 751(a)(3)(A) of the Act and 19 CFR 351.213(h).

Assessment Rates

Upon issuance of the final results, the Department will determine, and Customs and Border Protection (CBP) shall assess, antidumping duties on all appropriate entries in accordance with 19 CFR 351.212(b)(1). If CJI's weighted-average dumping margin is not zero or de minimis (i.e., less than 0.5 percent) in the final results of this review, we will calculate importer-specific assessment rates based on the ratio of the total amount of dumping calculated for the importer's examined sales and the total entered value of the sales in accordance with 19 CFR 351.212(b)(1). We will instruct CBP to assess antidumping duties on all appropriate entries covered by this review when the importer-specific assessment rate calculated in the final results of this review is above de minimis. Where the respondent's weighted-average dumping margin is zero or de minimis, or an importer-specific assessment rate is zero or de minimis, we will instruct CBP to liquidate the appropriate entries without regard to antidumping duties. The final results of this review shall be the basis for the assessment of antidumping duties on entries of merchandise covered by the final results of this review and for future deposits of estimated duties, where applicable.

For entries of subject merchandise during the POR produced by the respondent for which it did not know that its merchandise was destined for the United States, we will instruct CBP to liquidate unreviewed entries at the all-others rate if there is no rate for the intermediate company(ies) involved in the transaction. We intend to issue instructions to CBP 15 days after the date of publication of the final results of this review.

Cash Deposit Requirements

The following cash deposit requirements will be effective for all shipments of subject merchandise entered, or withdrawn from warehouse, for consumption on or after the date of publication of the final results of this administrative review, as provided for by section 751(a)(2)(C) of the Act: (1) The cash deposit rate for the company under review will be the rate established in the final results of this review, except, if the rate is zero or de minimis (i.e., less than 0.5 percent), no cash deposit will be required; (2) for previously reviewed or investigated companies not listed above, the cash deposit rate will continue to be the company-specific rate published for the most recent period; (3) if the exporter is not a firm covered in this review, a prior review, or the less-than-fair-value investigation, but the manufacturer is, the cash deposit rate will be the rate established for the most recent period for the manufacturer of the merchandise; and (4) the cash deposit rate for all other manufacturers or exporters is 6.19 percent, the all-others rate established in the investigation.⁷ These cash deposit requirements, when imposed, shall remain in effect until further notice.

⁷ See Monosodium Glutamate from the Republic of Indonesia: Final Determination of Sales at Less Than Fair Value 79 FR 58329 (September 29, 2014).

Notification to Interested Parties

This notice serves as a preliminary reminder to importers of their responsibility under 19 CFR 351.402(f)(2) to file a certificate regarding the reimbursement of antidumping duties prior to liquidation of the relevant entries during this review period. Failure to comply with this requirement could result in the Department's presumption that reimbursement of antidumping duties occurred and the subsequent assessment of double antidumping duties.

We are issuing and publishing these results in accordance with sections 751(a)(1) and 777(i)(1) of the Act.

Dated: November 27, 2017.
Carole Showers,
Executive Director, Office of Policy performing the duties of the Deputy Assistant Secretary for Enforcement and Compliance.

Appendix

List of Topics Discussed in the Preliminary Decision Memorandum

I. Summary

II. Background

III. Scope of the Order

IV. Comparisons to Normal Value

V. Product Comparisons

VI. Date of Sale

VII. Constructed Export Price

VIII. Normal Value

IX. Currency Conversion

X. Recommendation

[FR Doc. 2017-26063 Filed 12-1-17; 8:45 am]

BILLING CODE 3510-DS-P